POSTAL SERVICE

39 CFR Part 111

Balloting Materials Postage

AGENCY: Postal Service™.

ACTION: Proposed rule.

SUMMARY: The Postal Service proposes to revise Mailing Standards of the United States Postal Service, Domestic Mail Manual (DMM®) 703.8.0 to require all ballot types to indicate that the proper amount of postage must be paid and to require balloting materials indicate the amount of postage for the return of ballots, unless mailed under the special exemption for military or overseas voting or returned under Business Reply Mail® service.

DATES: We must receive your comments on or before June 3, 2013.

ADDRESSES: Mail or deliver written comments to the manager, Product Classification, U.S. Postal Service, 475 L'Enfant Plaza SW., Room 4446, Washington DC 20260-5015. You may inspect and photocopy all written comments at USPS® Headquarters Library, 475 L'Enfant Plaza SW., 11th Floor N, Washington DC, between 9 a.m. and 4 p.m., Monday through Friday. Email comments concerning the proposed rule, containing the name and address of the commenter, may be sent to: ProductClassification@usps.gov, with a subject line of “Balloting Materials Postage.” Faxed comments are not accepted.

FOR FURTHER INFORMATION CONTACT: Steven Monteith at (202) 268-6983, or Garry Rodriguez at 202-268-7281.

SUPPLEMENTARY INFORMATION: With the growth of no excuse absentee voting, and the spread of vote-by-mail efforts throughout the country, the United States Postal Service® has noted an increase in ballots mailed back to Election Officials with insufficient postage. Each election cycle presents a different set of parameters for ballot creation and for the size and weight of the mail piece. As a result, we believe that many voters may not be adequately informed of the sufficient amount of postage required to return a ballot by mail.

To rectify this problem, the Postal Service is proposing that the balloting materials for all types of ballots whether disseminated hardcopy or electronically not qualified under the special exemption for military and overseas voting or returned under Business Reply Mail service must indicate in a prominent location the proper amount of First-Class Mail® postage that must be paid. This information must be included in the ballot materials (i.e., on the ballot, ballot instructions, mailing instructions, or the envelope) with the marking “Sufficient First-Class Mail postage must be applied.” Alternatively, the marking “Apply sufficient First-Class Mail postage here” could be printed in the upper right corner of the address side of the envelope used by the voter to return the ballot to election officials.

Additionally, the Postal Service is proposing that the balloting material indicate in a prominent location the specific First-Class Mail postage amount required for the return of the ballot to election officials, unless the ballot qualifies under the special exemption or is returned under Business Reply Mail service.

Although we are exempt from the notice and comment requirements of the Administrative Procedure Act [5 U.S.C. 553(b), (c)] regarding proposed rulemaking by 39 U.S.C. 410 (a), we invite public comments on the following proposed revisions to Mailing Standards of the United States Postal Service, Domestic Mail Manual (DMM), incorporated by reference in the Code of Federal Regulations. See 39 CFR 111.1.

List of Subjects in 39 CFR Part 111

Administrative practice and procedure, Postal Service.

Accordingly, 39 CFR part 111 is proposed to be amended as follows:

PART 111—[AMENDED.]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the following sections of Mailing Standards of the United States Postal Service, Domestic Mail Manual (DMM), as follows:

* * * * *

700 Special Standards

[Revise the heading of 703 as follows:]

703 Nonprofit Standard Mail and/or Other Unique Eligibility

* * * * *

[Revise the heading of 8.0 as follows:]

8.0 Balloting Materials

[Renumber 8.1 and 8.2 as 8.2 and 8.3. Add new 8.1 as follows:]

8.1 Basic Standards

8.1.1 Definition

Balloting materials include postcard applications, all ballot types, voting instructions, mailing instructions, and return envelopes.

8.1.2 Postage

Unless a ballot meets the eligibility requirements under 8.2 or is returned under 505.1.0, Business Reply Mail service, ballot materials for any election whether disseminated hardcopy or electronically must indicate in a prominent location that the proper amount of postage must be paid. This information must be included in the ballot materials with the marking “First-Class Mail postage must be applied.” Alternatively, the marking “Apply First-Class Mail postage here” may be printed in the upper right corner of the address side of the return envelope. Election officials should consult with postal officials to assist with mailpiece design, barcode placement, and to determine the proper amount of postage required for mailing ballots to voters and the return of ballots to election officials.

8.1.3 Notification of Postage Requirement on Return Ballots

Except for ballots mailed under 8.2 or returned under 505.1.0, Business Reply Mail service, all return ballot types for any election whether disseminated hardcopy or electronically must indicate in a prominent location on the balloting materials the specific amount of First-Class Mail postage required for return by mail to election officials.

[Revise the heading of renumbered 8.2 as follows:]

8.2 Special Exemption

8.2.1 Definition

[Revise the introductory text of renumbered 8.2.1 as follows:]

Balloting materials may be sent through the mail without prepayment of postage to enable persons in the following categories to apply for registration and vote by absentee ballot when absent from the place of voting residence and otherwise eligible to vote as an absentee:

* * * * *

[Delete renumbered heading 8.3, Marking, and renumber 8.3.1 as 8.2.5, Exhibit 8.3.1 as Exhibit 8.2.5, 8.3.2 as 8.2.6, Exhibit 8.3.2 as Exhibit 8.2.6, and 8.3.3 as 8.2.7.]

* * * * *

We will publish an appropriate amendment to 39 CFR part 111 to reflect these changes if our proposal is adopted.

Stanley F. Mires,
Attorney, Legal Policy and Legislative Advice.

[FR Doc. 2013-10347 Filed 5-1-13; 8:45 am]

BILLING CODE 7710-12-P